DEPARTMENT OF ENERGY

Federal Energy Regulatory Commission

[Docket No. EC98-40-000, et al.]

American Electric Power Company., et al.; Electric Rate and Corporate Regulation Filings

April 15, 2002.

Take notice that the following filings have been made with the Commission. Any comments should be submitted in accordance with Standard Paragraph E at the end of this notice.

1. American Electric Power Company

[Docket Nos. EC98-40-000, ER98-2770-000, and ER98-2786-000]

Take notice that on April 11, 2002, the Market Monitor filed Market Monitoring of American Electric Rower their seventh quarterly report to the Federal Energy Regulatory Commission.

Comment Date: May 2, 2002.

2. Las Vegas Cogeneration II, L.L.C.

[Docket No. EG02-117-000]

Take notice that on April 11, 2002, Las Vegas Cogeneration II, L.L.C. (Applicant), filed with the Federal Energy Regulatory Commission (Commission) an application for determination of exempt wholesale generator status pursuant to Part 365 of the Commission's regulations.

Applicant is a Delaware limited liability company formed for the exclusive purpose of owning and selling the output at wholesale of a generating facility located in North Las Vegas, Nevada (the Facility). The Facility will consist of four gas-fired turbine generators and ancillary equipment having a generating capability of approximately 230 MW.

Applicant stated that it served its application on the following: Public Utilities Commission of Nevada, South Dakota Public Utility Commission, Wyoming Public Service Commission, the Securities and Exchange Commission, and Nevada Power Company.

Comment Date: May 6, 2002.

3. Las Vegas Cogen Energy Financing Company, L.L.C.

[Docket No. EG02-118-000]

Take notice that on April 11, 2002, Las Vegas Cogen Energy Financing Company, L.L.C. (Applicant), filed with the Federal Energy Regulatory Commission (Commission) an application for determination of exempt wholesale generator status pursuant to part 365 of the Commission's regulations.

Applicant is a Delaware limited liability company formed for the exclusive purpose of acquiring, owning, and leasing to Las Vegas Cogeneration II, L.L.C. (LV Cogen II), four gas-fired turbine generators and associated generator step-up transformers having a generating capability of approximately 230 MW. LV Cogen II will incorporate the generating equipment into its generating facility located in North Las Vegas, Nevada (the Facility) and sell the output of the Facility exclusively at wholesale.

Applicant stated that it served its application on the following: Public Utilities Commission of Nevada, South Dakota Public Utility Commission, Wyoming Public Service Commission, the Securities and Exchange Commission, and Nevada Power Company.

Comment Date: May 6, 2002.

4. Exelon Generation Company, LLC

[Docket No. ER01-948-000]

Take notice that on April 10, 2002, Exelon Generation Company, LLC (Exelon Generation), requested the Federal Energy Regulatory Commission to act on Exelon Generation's January 12, 2001, filing in the captioned docket, which Exelon Generation on February 20, 2001, requested be held in abeyance pending further action by Exelon Generation.

Comment Date: May 1, 2002.

5. California Independent System Operator Corporation

[Docket No. ER02-922-001]

Take notice that on April 11, 2002, the California Independent System Operator Corporation (ISO) submitted a filing in compliance with the Commission's March 27, 2002 “Order Accepting In Part And Rejecting In Part Tariff Amendment No. 42 And Dismissing Complaint,” 98 FERC ¶ 61,327. The ISO states that it has served copies of this filing upon all parties listed on the official service list for this proceeding.

Comment Date: May 2, 2002.

6. Entergy Services, Inc.

[Docket No. ER02-1508-000]

Take notice that on April 10, 2002, Entergy Services, Inc., (Entergy Services), on behalf of the Entergy Operating Companies, tendered for filing a Short-Term Market Rate Sales Agreement between Entergy Services and Alabama Electric Cooperative, Inc. under Entergy Services' Rate Schedule SP.

Comment Date: May 1, 2002.

7. Central Hudson Gas & Electric Corporation

[Docket No. ER02-1509-000]

Take notice that on April 11, 2002, Central Hudson Gas & Electric Corporation (Central Hudson),tendered for filing a Notice of Cancellation of Rate Schedule FERC No. 201. Rate Schedule FERC No. 201 sets forth the terms and charges for transmission facilities provided by Central Hudson to Consolidated Edison Company of New York, Inc. (Con Edison) and Niagara Mohawk Power Corporation (Niagara Mohawk) for the transmission of output from the Roseton Generating Station.

The aforementioned cancellation is the result of the sale of the Roseton Generating Station, which was owned by the Company and Con Edison and Niagara Mohawk as tenants-in-common, to affiliates of Dynegy Power Corp. on January 30, 2001.

Central Hudson requests waiver on the notice requirements set forth in 18 CFR 35.11 of the Regulations to permit the cancellation to become effective January 1, 2002.

Central Hudson states that a copy of its filing was served on Con Edison, Niagara Mohawk and the State of New York Public Service Commission.

Comment Date: May 2, 2002.

8. Pinnacle West Capital Corporation

[Docket No. ER02-1510-000]

Take notice that on April 11, 20002, Pinnacle West Capital Corporation (PWCC) tendered for filing with the Federal Energy Regulatory Commission (Commission) two Service Agreements under the Western Systems Power Pool Agreement for service to APS Energy Services. PWCC has requested waiver of the Commission's Notice Requirements for effective dates as stated in the service agreements.

PWCC has requested confidential treatment of certain privileged information pursuant to 18 CFR 388.112 in the long-term contracts. A copy of this filing has been served on APS Energy Services.

Comment Date: May 2, 2002.

9. Yuba City Energy Center, LLC

[Docket No. ER02-1512-000]

Take notice that on April 11, 2002, Yuba City Energy Center, LLC, (Yuba City) tendered for filing, under section'205 of the Federal Power Act , a request for authorization to make wholesale sales of electric energy, capacity and ancillary services at market-based rates, to reassign transmission capacity, and to resell firm transmission rights. Yuba City proposes to own and operate a 48.7 megawatt simple cycle natural gas-fired peaking unit located in Sutter County, California.

Comment Date: May 2, 2002.

10. Public Service Company of New Mexico

[Docket No. ER02-1513-000]

Take notice that on April 11, 2002, Public Service Company of New Mexico (PNM) submitted for filing four executed service agreements for point-to-point transmission service, under the terms of PNM's Open Access Transmission Tariff, with the following customers: UBS AG, London Branch (UBS AG) (one agreement for Non-Firm Service and one agreement for Short-Term Firm Service) and PNM Bulk Power Marketing (PNM BPM) (one agreement for Non-Firm Service and one agreement for Short-Term Firm Service).

PNM requests April 1, 2002, as the effective date for each agreement. PNM's filing is available for public inspection at its offices in Albuquerque, New Mexico. Copies of the filing have been sent to UBS AG and PNM BPM, as well as to the New Mexico Public Regulation Commission and the New Mexico Attorney General.

Comment Date: May 2, 2002.

11. Ameren Services Company

[Docket No.ER02-1514-000]

Take notice that on April 11, 2002, Ameren Services Company (ASC) tendered for filing Service Agreements for Long-Term Firm Point-to-Point Transmission Service Agreements between ASC and Ameren Energy, Energy-Koch Trading, LP and Upper Peninsula Power Company and Non-Firm Point-to-Point Transmission Service between ASC and Upper Peninsula Power Company (the parties). ASC asserts that the purpose of the Agreements is to permit ASC to provide transmission service to the parties pursuant to Ameren's Open Access Transmission Tariff.

Comment Date: May 2, 2002.

12. West Penn Power Company (dba Allegheny Power)

[Docket No. ER02-1515-000]

Take notice that on April 11, 2002, West Penn Power Company, dba Allegheny Power, filed an Addendum to its Electric Service Agreement with Duquesne Light Company to add a delivery point. An effective date for the new delivery point of April 19, 2002 is requested.

Copies of the filing have been provided to the Public Utilities Commission of Ohio, the Pennsylvania Public Utility Commission, the Maryland Public Service Commission, the Virginia State Corporation Commission, the West Virginia Public Service Commission and all parties of record.

Comment Date: May 2, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-9839 Filed 4-22-02; 8:45 am]

BILLING CODE 6717-01-P